DEPARTMENT OF HEALTH AND HUMAN SERVICES

Indian Health Service

Substance Abuse and Suicide Prevention Program: Suicide Prevention, Intervention, and Postvention

Announcement Type: New.

Funding Announcement Number: HHS-2022-IHS-SPIP-0001.

Assistance Listing (Catalog of Federal Domestic Assistance or CFDA) Number: 93.654.

Key Dates

Application Deadline Date: February 2, 2022.

Earliest Anticipated Start Date: March 21, 2022.

I. Funding Opportunity Description

Statutory Authority

The Indian Health Service (IHS) is accepting applications for a component of the Substance Abuse and Suicide Prevention (SASP) Program: Suicide Prevention, Intervention, and Postvention (SPIP). This program is authorized under the Snyder Act, 25 U.S.C. 13; the Transfer Act, 42 U.S.C. 2001(a); and the Indian Health Care Improvement Act, 25 U.S.C. 1601-1683. This program is described in the Assistance Listings located at https://sam.gov/content/home (formerly known as the CFDA) under 93.654.

Background

The origin of the SASP SPIP grant program began with the Methamphetamine and Suicide Prevention Initiative (MSPI), conducted from September 2009-August 2015. In that nationally coordinated 6-year demonstration pilot project, the IHS funded 130 IHS, Tribal, and Urban Indian organizations (UIOs) that focused on providing methamphetamine and suicide prevention and intervention resources for Indian Country.

The second phase of the funding cycle built on lessons learned from the MSPI pilot and was implemented from September 2015—September 2020 and funded 174 IHS, Tribal, and UIO projects. This phase of the SPIP portion of the SASP Program will build upon previous years' work and lessons learned, and will continue to promote the use and development of evidence-based and practice-based models that represent culturally appropriate prevention and treatment approaches to substance use and suicide prevention from a community-driven context. For a complete listing of demonstration pilot and cohort one projects, please visit https://www.ihs.gov/sasp/pilotprojects20092014/ and https://www.ihs.gov/sasp/fundedprojects/.

In previous years, awards were made from the same funding opportunity announcement with four distinct “purpose areas.” In order to provide program clarity and tracking of outcomes, the IHS is offering funding through separate notice of funding opportunity announcements for fiscal year (FY) 2022. This funding opportunity is focused on Suicide Prevention, Intervention, and Postvention. There will not be separate “purpose areas” for this funding opportunity.

Purpose

The primary purpose of this program is to reduce the prevalence of suicide among American Indian and Alaska Native (AI/AN) populations. Tribes can accomplish these goals by:

1. Improving care coordination;

2. Expanding behavioral health care services through the use of culturally appropriate evidence-based and practice-based models to address these issues; and

3. Developing or expanding on activities for the Generation Indigenous (Gen-I) Initiative by implementing early intervention strategies for AI/AN youth at risk for suicidal behavior, in addition to any proposed activities for the adult population.

In alignment with the IHS 2019-2023 Strategic Plan Goal 1: To ensure that comprehensive, culturally appropriate personal and public health services are available and accessible to AI/AN people, the SASP program is designed to ensure access to comprehensive, culturally appropriate services and promote quality programming to address suicide for AI/AN youth and adults. The IHS supports Tribal efforts that include addressing suicide prevention, intervention, and postvention from a community-driven context. The IHS encourages applicants to develop and submit a plan that emphasizes cross-system collaboration, the inclusion of family, youth, and community resources, and culturally appropriate approaches.

Required Activities

The focus of this funding opportunity announcement is on the prevention, intervention, and postvention of suicide ideations, suicide attempts, and suicides among AI/AN populations.

The IHS is seeking applications that include the following required activities:

1. Foster coalitions and networks to improve care coordination:

a. Educate and train providers on model practices for suicide screening (e.g., National Institute of Mental Health's Ask Suicide-Screening Questions); evidence-based suicide risk assessment (e.g., National Institute of Mental Health's Brief Suicide Safety Assessment); suicide care such as the Collaborative Assessment and Management of Suicidality (CAMS) model; Safety Planning (e.g., Suicide Prevention and Resource Center); Lethal Means Counseling (e.g., Counseling on Access to Lethal Means); and trauma informed care (e.g., Dialectical Behavioral Therapy, Cognitive Therapy for Suicide Prevention, Problem Solving Therapy, Mentalization-Based Treatment, Psychodynamic Interpersonal Therapy, and Cognitive Behavioral Therapy for Suicide Prevention).

b. Educate and train community members to recognize and respond to the warning signs of suicide and prevent and intervene in suicides and suicide ideations (e.g., Questions, Persuade and Refer, Applied Suicide Intervention Skills Training, and Mental Health First Aid).

c. Increase community awareness of local behavioral health resources.

d. Develop community suicide response teams.

e. Develop community suicide response plans.

f. Establish local health system policies/protocols to integrate suicide prevention and intervention services in schools, courts, corrections/detention systems, and law enforcement agencies.

2. Expand available behavioral health care treatment services:

a. Develop a strategic plan to address the health system organizational needs for suicide prevention, intervention, and postvention services including the use, or expansion, of telehealth and similar technologies.

b. Integrate behavioral health into the primary care setting for suicide care and screening to include the use or expansion of telehealth and similar technologies.

c. Provide evidence-based suicide care for clients at risk for suicide.

d. Provide access to culturally appropriate treatment services and resources.

e. Implement a trauma-informed approach and trauma-informed care treatment and services.

3. Improve the referral process:

a. Increase the capacity of community members and service providers (i.e., primary care, schools, child welfare, and criminal justice) to make appropriate screening and referral to behavioral health services and supports related to suicide prevention, intervention, and postvention.

b. Refer to cultural services and/or culturally appropriate suicide prevention, intervention, or postvention services, including natural support systems.

4. In addition to any proposed activities for the adult population, develop or expand on activities for the Gen-I Initiative by implementing culturally appropriate evidence-based and practice-based approaches to build resiliency, resistance, hardiness, empathy, promote positive development, and increase self-sufficiency behaviors among Native youth:

a. Implement evidence-based and practice-based interventions in suicide prevention for Native youth in the community.

b. Provide support services to Native youth and their families impacted by suicide.

c. Promote positive development and increase self-sufficiency of Native youth by providing culturally appropriate suicide prevention activities through use of traditional practices (e.g., language rejuvenation, language immersion, song and storytelling teaching, and oral history rejuvenation).

d. Promote family and community engagement in the planning and implementation of Native youth suicide prevention activities (e.g., Gathering of Native Americans).

e. Provide school-based awareness/education about suicide prevention, intervention, postvention, and aftercare (e.g., Hope Squad).

f. Support the development of Native youth peer-to-peer support and education programs.

g. Promote/support the development of a Tribal Youth Council to provide guidance/feedback on community suicide prevention planning and strategic planning.

5. Development of a formal plan/process to ensure the sustainability of the project activities beyond the grant life-cycle:

a. Develop a community-based strategic plan to address the long-term suicide prevention, intervention, and postvention needs of the community.

b. Assess community and workforce needs and assets via a community and organization needs assessment and community resource asset mapping.

II. Award Information

Funding Instrument—Grant

Estimated Funds Available

The total funding identified for FY 2022 is approximately $14,000,000. Individual award amounts for the first budget year are anticipated to be from $300,000 to $400,000. The funding available for competing and subsequent continuation awards issued under this announcement is subject to the availability of appropriations and budgetary priorities of the Agency. The IHS is under no obligation to make awards that are selected for funding under this announcement.

Anticipated Number of Awards

Approximately 35 awards will be issued under this program announcement. Up to five awards will be set aside for eligible Urban Indian organizations.

Period of Performance

The period of performance is for 5 years.

III. Eligibility Information

1. Eligibility

To be eligible for this new funding opportunity, applicants must be one of the following, as defined by 25 U.S.C. 1603:

• A federally recognized Indian Tribe as defined by 25 U.S.C. 1603(14). The term “Indian Tribe” means any Indian Tribe, band, nation, or other organized group or community, including any Alaska Native village or group, or regional or village corporation, as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: Provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29). The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of nonprofit status with the application, e.g., 501(c)(3).

The program office will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. The Division of Grants Management (DGM) will notify the applicant.

Additional Required Documentation

Tribal Resolution

The DGM must receive an official, signed Tribal Resolution prior to issuing a Notice of Award (NoA) to any applicant selected for funding. An Indian Tribe or Tribal organization that is proposing a project affecting another Indian Tribe must include resolutions from all affected Tribes to be served. However, if an official, signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official, signed Tribal Resolution to the GMS. If the signed Tribal Resolution is not received within 90 days, the award will be forfeited.

Tribes organized with a governing structure other than a Tribal council may submit an equivalent document commensurate with their governing organization.

Proof of Nonprofit Status

Organizations claiming nonprofit status must submit a current copy of the 501(c)(3) Certificate with the application.

IV. Application and Submission Information

1. Obtaining Application Materials

The application package and detailed instructions for this announcement are available at https://www.Grants.gov.

Please direct questions regarding the application process to Mr. Paul Gettys at (301) 443-2114 or (301) 443-5204.

2. Content and Form Application Submission

Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 15 pages). See Section IV.2.A, Project Narrative for instructions.

1. Background information on the organization.

2. Proposed scope of work, objectives, and activities that provide a description of what the applicant plans to accomplish.

• Timeline (one page).

• Budget Justification and Narrative (not to exceed four pages). See Section IV.2.B, Budget Narrative for instructions.

• Tribal Resolution or Tribal Letter of Support (only required for Tribes and Tribal organizations).

• Letter(s) of Commitment:

1. Local Organizational Partners;

2. Community Partners;

3. For Tribal organizations: from the board of directors (or relevant equivalent);

4. For Urban Indian organizations: from the board of directors (or relevant equivalent).

• 501(c)(3) Certificate (if applicable).

• Biographical sketches for all key personnel (e.g., project director, project coordinator, grants coordinator, etc.) (not to exceed one page each).

• Contractor/consultant qualifications and scope of work.

• Disclosure of Lobbying Activities (SF-LLL), if applicant conducts reportable lobbying.

• Certification Regarding Lobbying (GG-Lobbying Form).

• Copy of current Negotiated Indirect Cost rate (IDC) agreement (required in order to receive IDC).

• Documentation of current Office of Management and Budget (OMB) Financial Audit (if applicable).

Acceptable forms of documentation include:

1. Email confirmation from Federal Audit Clearinghouse (FAC) that audits were submitted; or

2. Face sheets from audit reports. Applicants can find these on the FAC website at https://harvester.census.gov/facdissem/Main.aspx.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 15 pages and must: (1) Have consecutively numbered pages; (2) use black font 12 points or larger; (3) be single-spaced; and (4) be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 15-page limit for the narrative does not include the standard forms, Tribal Resolutions, budget, budget justification and narrative, and/or other items.

There are three parts to the narrative: Part 1—Program Planning; Part 2—Program Data Collection and Evaluation; and Part 3—Program Accomplishments Report. See below for additional details about what must be included in the narrative. The page limits below are for each narrative and budget submitted.

Part 1: Program Planning (Limit—10 Pages)

Describe the scope of work the Tribe, Tribal organization, or UIO are planning by clearly and concisely outlining the following required components:

1. Goals and Objectives. Reference all required objectives.

2. Project Activities. Link your project activities to your outlined goals and objectives.

3. Organization Capacity and Staffing/Administration. State your organization's current capacity to implement and manage this award (i.e., current staffing, facilities, information systems, and experience with previous similar projects).

Part 2: Program Data Collection and Evaluation (Limit—3 Pages)

Based on the required objectives, describe how the Tribe, Tribal organization, or UIO plans to collect data for the proposed project and activities. Identify any type(s) of evaluation(s) that will be used and how you will collaborate with partners (i.e., Tribal Epidemiology Center (TEC)) to complete any evaluation efforts or data collection. Funded projects are encouraged to coordinate data collection efforts with their TEC or Urban Epidemiology Center (for urban awardees) and should describe their plan for coordination and collaboration with the TEC.

Part 3: Program Accomplishments Report (Limit—2 Pages)

Describe the Tribe, Tribal organization, or UIO's significant program activities and achievements/accomplishments over the past 5 years associated with suicide prevention, intervention, and postvention activities. Provide success stories, data, or other examples of how other funded projects/programs made an impact in your community to address suicide. If applicable, provide justification for lack of progress of previous efforts.

B. Budget Narrative (Limit—4 Pages)

Provide a budget narrative that explains the amounts requested for each line item of the budget from the SF-424A (Budget Information for Non-Construction Programs). The budget narrative can include a more detailed spreadsheet than is provided by the SF-424A. The budget narrative should specifically describe how each item will support the achievement of proposed objectives. Be very careful about showing how each item in the “Other” category is justified. For subsequent budget years (see Multi-Year Project Requirements in Section V.1, Application Review Information, Evaluation Criteria), the narrative should highlight the changes from year one or clearly indicate that there are no substantive budget changes during the period of performance. Do NOT use the budget narrative to expand the project narrative.

The SASP program proposal template and associated templates for the timeline chart, biographical sketch, budget and budget narrative/justification can be located and downloaded from the SASP program website at https://www.ihs.gov/sasp/newsannouncements/.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant will be awarded per applicant.

• The purchase of food (i.e., as supplies, for meetings or events, etc.) is not an allowable cost with this grant funding and should not be included in the budget/budget justification.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method, and (2) include clear justification for the need to deviate from the required application submission process.

Once the waiver request has been approved, the applicant will receive a confirmation of approval email containing submission instructions. A copy of the written approval must be included with the application that is submitted to the DGM. Applications that are submitted without a copy of the signed waiver from the Acting Director of the DGM will not be reviewed. The Grants Management Officer of the DGM will notify the applicant via email of this decision.

Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov/).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, the applicant will receive an automatic acknowledgment from Grants.gov that contains a Grants.gov tracking number. The IHS will not notify the applicant that the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://sam.gov (U.S. organizations will also need to provide an Employer Identification Number from the Internal Revenue Service that may take an additional 2-5 weeks to become active). Please see SAM.gov for details on the registration process and timeline. Registration with the SAM is free of charge but can take several weeks to process. Applicants may register online at https://sam.gov.

Additional information on implementing the Transparency Act, including the specific requirements for DUNS and SAM, are available on the DGM Grants Management, Policy Topics web page: https://www.ihs.gov/dgm/policytopics/.

V. Application Review Information

Possible points assigned to each section are noted in parentheses. The project narrative and budget narrative should include only the first year of activities; information for multi-year projects should be included as a separate document. See “Multi-year Project Requirements” at the end of this section for more information. The narrative section should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Statement of Need (20 Points)

1. Describe the history and current situation in the applicant's Tribal community (“community” means the applicant's Tribe, village, Tribal organization, or consortium of Tribes or Tribal organizations). Provide facts and evidence that supports the need for the project and establish that the Tribe, Tribal organization, or UIO understands the problems and can reasonably address them.

2. Provide background information on the Tribe, Tribal organization, or UIO.

3. Identify the proposed catchment area and provide demographic information on the population(s) to receive services through the targeted systems or agencies (e.g., race, ethnicity, federally recognized Tribe, language, age, socioeconomic status, sexual identity (sexual orientation, gender identity), and other relevant factors, such as literacy). Describe the stakeholders and resources in the catchment area that can help implement the needed infrastructure development.

4. Based on the information and/or data currently available, document the prevalence of suicide ideations, attempts, and completions. Data sources may include, but is not limited to, local data sources, TECs, IHS Area Offices, County/State-level data, or National databases such as the Centers for Disease Control and Prevention (CDC) National Violent Death Reporting System at https://www.cdc.gov/violenceprevention/datasources/nvdrs/index.html, CDC State Profiles at https://www.cdc.gov/violenceprevention/datasources/nvdrs/stateprofiles.html, and/or the CDC Web-based Injury Statistics Query and Reporting System at https://www.cdc.gov/injury/wisqars/index.html.

5. Based on the information and/or data currently available, document the need for an enhanced infrastructure to increase the capacity to implement, sustain, and improve effective behavioral health services in the proposed catchment area that is consistent with the purpose of this funding opportunity announcement. Based on available data, describe the service gaps and other problems related to the need for infrastructure development. Identify the source of the data. Documentation of need may come from a variety of qualitative and quantitative sources.

6. Describe the existing behavioral health service gaps, barriers, and other systemic challenges related to the need for planning and infrastructure development and coordination of suicide prevention services.

7. Describe potential project partners and community resources in the catchment area that can participate in the planning process and infrastructure development.

8. Affirm the goals of the project are consistent with priorities of the Tribal government or board of directors and that the governing body is in support of this application.

B. Project Goals, Objectives, Activities, and Approach (35 Points)

Evidence-Based Practices, Practice-Based Evidence, Promising Practices, and Local Efforts: The IHS strongly emphasizes the use of data and evidence in policymaking and program development and implementation in developing and implementing Tribal and/or culturally appropriate suicide prevention, intervention, and postvention, as well as early intervention strategies. Applicants are required to identify one or more evidence-based practice, practice-based evidence, best or promising practice, and/or local effort that they plan to implement in the Project Narrative section of their application. The SASP program website (https://www.ihs.gov/sasp/) is one resource that applicants may use to find information to build on the foundation of prior projects' suicide prevention and treatment efforts.

The IHS recognizes the limited range of formally evaluated evidence-based practices for suicide prevention, intervention, and postvention efforts that have been developed specifically for the AI/AN population. In addition to formally evaluated practices, evidence for other practices allowed in this grant program may include unpublished studies, preliminary evaluation results, clinical (or other professional association) guidelines, findings from focus groups with community members, local community surveys, etc. Each applicant is required to:

• Document the evidence that the practice(s) you have chosen is appropriate for the outcomes you want to achieve;

• Explain how the practice you have chosen meets the goals for this announcement, as identified in Section I;

• Describe any modifications/adaptations you will need to make to your proposed practice(s) to meet the goals of your project and why you believe the changes will improve the outcomes; and

• Discuss training needs or plans for training to successfully implement the proposed evidence-based practice(s).

1. Clearly and concisely describe the purpose of the proposed project, including goals and objectives and how they are linked. Describe how the achievement of goals will increase system capacity to support the goals and required activities identified in Section I.

2. Clearly and concisely describe how the proposed project activities are related to the proposed project's goals and objectives. Describe how the project activities will increase the capacity of the identified community to plan, improve, and sustain the coordination of a collaborative behavioral health and wellness service system to prevent suicide.

3. Discuss how the proposed approach addresses the local language, concepts, attitudes, norms, and values about suicide.

4. Describe how the proposed project will address issues of diversity within the population of focus including age, race, gender, ethnicity, culture/cultural identity, language, sexual orientation, disability, and literacy.

5. Describe how members of the community (including youth and families that may receive services) will be involved in the planning, implementation, data collection, and evaluation of the project.

6. Describe how the efforts of the proposed project will be coordinated with any other related Federal grants or programs funded through the IHS, Substance Abuse and Mental Health Services Administration, the Bureau of Indian Affairs, or other Federal agencies.

7. Provide a timeline chart depicting a realistic timeline for the project period showing key activities, milestones, and responsible staff. These key activities should include the required activities outlined in Section I.

8. Identify any other organization(s) that will participate in the proposed project. Describe their roles and responsibilities and demonstrate their commitment to the project.

C. Organizational Capabilities, Key Personnel, and Qualifications (15 Points)

1. Describe the management capability and experience of the applicant Tribe, Tribal organization, or UIO and other participating organizations in administering and sustaining results of similar grants and projects.

2. Describe significant program activities and achievements or accomplishments over the past 5 years associated with suicide prevention.

3. Describe the applicant Tribe, Tribal organization, or UIO experience and capacity to provide and sustain culturally appropriate/competent services to the community and specific populations of focus.

4. Describe the resources available for the proposed project (e.g., facilities, equipment, information technology systems, and financial management systems).

5. Describe how project continuity will be maintained when there is a change in the operational environment (e.g., staff turnover, change in project leadership, and change in elected officials) to ensure project stability over the life of the grant.

6. Provide a complete list of staff positions anticipated for the project, including the Project Director, Project Coordinator, and other key personnel, showing the role of each and their level of effort and qualifications.

7. For key staff currently on board, include a biographical sketch for the Project Director, Project Coordinator, or other key positions as attachments to the project proposal/application. Do not include any of the following in the biographical sketch:

Personally Identifiable Information (i.e., SSN, home address, etc.);

Resumes; or

Curriculum Vitae.

D. Program Evaluation (Data Collection & Reporting) (20 Points)

1. Describe the applicant's plan for data collection and document the applicant's ability to ensure accurate data tracking and meeting required reporting requirements/deadlines.

2. Provide a clear, specific plan for how data related to the project will be collected, managed, analyzed, and reported.

3. Describe any type(s) of evaluation(s) that will be used to assess the project during the grant life cycle.

4. Explain how you will collaborate with partners (i.e., Tribal Epidemiology Center) to complete any evaluation efforts or data collection.

E. Budget and Budget Justification (10 Points)

1. The applicant is required to include a line item budget for all expenditures identifying reasonable and allowable costs necessary to accomplish the goals and objectives, as outlined in the project narrative for Project Year one only. The budget expenditures should correlate with the scope of work described in the project narrative for the first project year expenses only.

2. The applicant must provide a narrative justification of the budget line items, as well as a description of existing resources and other support the applicant expects to receive for the proposed project. Other support is defined as funds or resources, whether Federal, non-Federal, or institutional, in direct support of activities through fellowships, gifts, prizes, in-kind contributions, or non-Federal means. (This should correspond to Item #18 on the applicant's SF-424, Estimated Funding, and SF-424A, Budget Information, Section C Non-Federal resources.)

3. Provide a narrative justification supporting the development or continued collaboration with other partners regarding the proposed activities to be implemented.

4. Depending on the availability of funds, the IHS may host annual meetings to provide in-depth training and technical assistance to awardees. In order to help establish critical mass of community and staff members who are informed and committed to implement the project, awardees should plan to send a minimum of three people (including the Project Director/Project Coordinator) to one meeting of all awardees in each year of the grant. At these meetings, awardees will receive training related to grant objectives, discuss success and challenges in implementation of the program, present the results of their projects, and receive other technical assistance from IHS staff and/or contractors. Each meeting may be up to 3 days. The locations will be determined at a later date, but applicants should estimate costs for Denver, Colorado as a potential site that is accessible to most of “Indian Country” and attendance is strongly encouraged. The Division of Behavioral Health (DBH) may determine that a virtual meeting(s) may be an option, if Federal government travel restrictions are in place, or if funding is not available to support an in-person meeting.

Multi-Year Project Requirements

Applications must include a brief project narrative and budget (one additional page per year) addressing the developmental plans for each additional year of the project. This attachment will not count as part of the project narrative or the budget narrative.

Additional documents can be uploaded as Other Attachments in Grants.gov. These can include:

• Work plan, logic model, and/or timeline for proposed objectives.

• Position descriptions for key staff (i.e., Project Director, Project Coordinator).

• Consultant or contractor proposed scope of work and letter of commitment (if applicable).

• Current Indirect Cost Rate Agreement.

• Organizational chart.

• Map of area identifying project location(s).

• Additional documents to support narrative (i.e., data tables, key news articles, etc.).

• Advisory board(s) description (membership, roles and functions, and frequency of meetings).

2. Review and Selection

Each application will be prescreened for eligibility and completeness as outlined in the funding announcement. Applications that meet the eligibility criteria shall be reviewed for merit by the Objective Review Committee (ORC) based on evaluation criteria. Incomplete applications and applications that are not responsive to the administrative thresholds (budget limit, project period limit) will not be referred to the ORC and will not be funded. The applicant will be notified of this determination.

Applicants must address all program requirements and provide all required documentation.

3. Notifications of Disposition

All applicants will receive an Executive Summary Statement from the IHS DBH within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The Criteria as Outlined in This Program Announcement

B. Administrative Regulations for Grants

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2020-title45-vol1/pdf/CFR-2020-title45-vol1-part75.pdf.

• Please review all HHS regulatory provisions for Termination at 45 CFR 75.372, at https://www.ecfr.gov/cgi-bin/retrieveECFR?gp&amp;SID=2970eec67399fab1413ede53d7895d99&amp;mc=true&amp;n=pt45.1.75&amp;r=PART&amp;ty=HTML&amp;se45.1.75_1372#se45.1.75_1372.

C. Grants Policy

• HHS Grants Policy Statement, Revised January 2007, at https://www.hhs.gov/sites/default/files/grants/grants/policies-regulations/hhsgps107.pdf.

D. Cost Principles

• Uniform Administrative Requirements for HHS Awards, “Cost Principles,” located at 45 CFR part 75 subpart E.

E. Audit Requirements

• Uniform Administrative Requirements for HHS Awards, “Audit Requirements,” located at 45 CFR part 75 subpart F.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of indirect costs (IDC) in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent only applies to applicants that have never received an approved negotiated indirect cost rate from HHS or another cognizant federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS grantees are negotiated with the Division of Cost Allocation at https://rates.psc.gov/ or the Department of the Interior (Interior Business Center) at https://ibc.doi.gov/ICS/tribal. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required annually. The progress reports are due within 30 days after the reporting period ends (specific dates will be listed in the NoA Terms and Conditions). These reports must include a brief comparison of actual accomplishments to the goals established for the period, a summary of progress to date or, if applicable, provide sound justification for the lack of progress, and other pertinent information as required. A final report must be submitted within 90 days of expiration of the period of performance and must provide a comprehensive summary of accomplishments and outcomes relative to each of the stated goals and objectives over the period of the grant.

B. Financial Reports

Federal Cash Transaction Reports are due 30 days after the close of every calendar quarter to the Payment Management Services at https://pms.psc.gov. Failure to submit timely reports may result in adverse award actions blocking access to funds.

Federal Financial Reports are due 30 days after the end of each budget period, and a final report is due 90 days after the end of the Period of Performance.

Grantees are responsible and accountable for reporting accurate information on all required reports: The Progress Reports, the Federal Cash Transaction Report, and the Federal Financial Report.

C. Data Collection and Reporting

All grantees will be required to collect and report data pertaining to activities, processes, and outcomes via the IHS Behavioral Health Reporting Portal (BHRP) within 30 days after the budget period ends for each project year (specific dates will be listed in the NoA Terms and Conditions). The BHRP will be open to project staff on a 24 hour per day/7 day per week basis for the duration of each reporting period. Technical assistance for web-based data entry will be timely and readily available to awardees by assigned DBH staff.

In addition to the annual progress reports, the IHS will compile and provide aggregate program statistics from data available in the National Data Warehouse (NDW). The IHS will use NDW data related to suicide prevention, intervention, and postvention, including associated community-level health care facility data, as a method to monitor outcomes and impact of grant activities.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Compliance With Executive Order 13166 Implementation of Services Accessibility Provisions for All Grant Application Packages and Funding Opportunity Announcements

Should you successfully compete for an award, recipients of Federal financial assistance (FFA) from HHS must administer their programs in compliance with Federal civil rights laws that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/ocr/civilrights/understanding/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose, in a timely manner, in writing to the IHS and to the HHS Office of Inspector General of all information related to violations of Federal criminal law involving fraud, bribery, or gratuity violations potentially affecting the Federal award. 45 CFR 75.113.

Disclosures must be sent in writing to: U.S. Department of Health and Human Services, Indian Health Service, Division of Grants Management, ATTN: Paul Gettys, Acting Director, 5600 Fishers Lane, Mail Stop: 09E70, Rockville, MD 20857 (Include “Mandatory Grant Disclosures” in subject line), Office: (301) 443-5204, Fax: (301) 594-0899, Email: Paul.Gettys@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the programmatic issues may be directed to: Audrey Solimon, Public Health Analyst, Indian Health Service, Division of Behavioral Health, 5600 Fishers Lane, Mail Stop: 08N34-A, Rockville, MD 20857, Phone: (301) 590-5421, Fax: (301) 594-6213, Email: Audrey.Solimon@ihs.gov.

2. Questions on grants management and fiscal matters may be directed to: Donald Gooding, Grants Management Specialist, Indian Health Service, Division of Grants Management, 5600 Fishers Lane, Mail Stop: 09E70, Rockville, MD 20857, Phone: (301) 443-2298, Fax: (301) 594-0899, Email: Donald.Gooding@ihs.gov.

3. Questions on systems matters may be directed to: Paul Gettys, Acting Director, Indian Health Service, Division of Grants Management, 5600 Fishers Lane, Mail Stop: 09E70, Rockville, MD 20857, Phone: (301) 443-2114; or the DGM main line (301) 443-5204, Fax: (301) 443-9602, Email: Paul.Gettys@ihs.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Elizabeth A. Fowler,
Acting Director, Indian Health Service.

[FR Doc. 2021-24022 Filed 11-3-21; 8:45 am]

BILLING CODE 4165-16-P